DEPARTMENT OF JUSTICE

Drug Enforcement Administration

[Docket No. DEA-599]

Importer of Controlled Substances Application: SpecGx LLC

ACTION: Notice of application.

DATES: Registered bulk manufacturers of the affected basic class(es), and applicants therefore, may file written comments on or objections to the issuance of the proposed registration on or before April 9, 2020. Such persons may also file a written request for a hearing on the application on or before April 9, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on December 30, 2019, SpecGx LLC, 3600 North Second Street, Saint Louis, Missouri 63147 applied to be registered as an importer of the following basic class(es) of controlled substances:

Controlled substance | Drug code | Schedule
Marihuana | 7360 | I
Phenylacetone | 8501 | II
Coca Leaves | 9040 | II
Thebaine | 9333 | II
Opium, raw | 9600 | II
Poppy Straw Concentrate | 9670 | II
Tapentadol | 9780 | II

The company plans to import the listed controlled substances for bulk manufacture into Active Pharmaceutical Ingredients (API) for distribution to its customers. In reference to drug code 7360 (marihuana), the company plans to import synthetic cannabinol. No other activity for this drug is authorized for this registration. Placement of these codes onto the company's registration does not translate into automatic approval of subsequent permit applications to import controlled substances.

Approval of permit applications will occur only when the registrant's business activity is consistent with what is authorized under 21 U.S.C. 952(a)(2).

Authorization will not extend the import of FDA approved or non-approved finished forms for commercial sale.

Dated: February 27, 2020.
William T. McDermott,
Assistant Administrator.

[FR Doc. 2020-04834 Filed 3-9-20; 8:45 am]

BILLING CODE 4410-09-P